DEPARTMENT OF ENERGY

Federal Energy Regulatory Commission

[Docket No. AD25-7-000]

Meeting the Challenge of Resource Adequacy in Regional Transmission Organization and Independent System Operator Regions; Second Supplemental Notice of Commissioner-Led Technical Conference

As announced in the February 20, 2025 Notice in this proceeding, the Federal Energy Regulatory Commission (Commission) will convene a Commissioner-led technical conference in the above-referenced proceeding. The two-day technical conference will take place from 9:00 a.m. to 4:00 p.m. Eastern Time on Wednesday, June 4, 2025, and Thursday, June 5, 2025, in the Kevin J. McIntyre Commission Meeting Room at the Federal Energy Regulatory Commission, 888 First Street NE, Washington, DC 20426.

The purpose of this technical conference is to discuss generic issues related to resource adequacy constructs, including the roles of capacity markets in the Regional Transmission Organization (RTO)/Independent System Operator (ISO) regions that utilize them and alternative constructs in RTO/ISO regions without capacity markets. The conference will start with a panel discussion on resource adequacy challenges across RTO/ISO regions, including regional differences. The remainder of the first day will include three panels specific to PJM Interconnection, L.L.C. (PJM) that will explore PJM's resource adequacy challenge, PJM states' perspectives, and additional perspectives on PJM's path forward. The second day will start with two panels specific to Midcontinent Independent System Operator, Inc. (MISO) that will explore MISO's resource adequacy challenge and perspectives on MISO's path forward. The remainder of the second day will include one panel to explore the resource adequacy challenge in ISO New England Inc. (ISO-NE) and New York Independent System Operator, Inc. (NYISO) and a final panel on the resource adequacy challenge in California Independent System Operator Corporation (CAISO) and Southwest Power Pool (SPP). The preliminary agenda for this conference is attached to this Supplemental Notice and provides more detail for each panel.

Commission staff will post pre-filed statements submitted by panelists on the FERC technical conference web page prior to the conference and in eLibrary. With the exception of opening statements on Panel 1, which may be delivered orally, all other panels will proceed immediately to questions from the Chairman and Commissioners.

All interested persons are also invited to file pre-technical conference comments in eLibrary on the issues of the conference, including the questions listed in the attached agenda. Commenters need not answer all the questions but are encouraged to organize responses using the numbering and sequencing in the attached agenda.

The Commission does not intend to discuss at this technical conference any specific proceeding pending before the Commission, including proceedings that involve similar issues. These proceedings include, but are not limited to:

| Docket Nos.
NRG Business Marketing LLC, NRG Power Marketing LLC | ER23-2688, et al.; ER22-1539, et al.
Southwest Power Pool, Inc | ER24-1317-000. ER24-2953-000.
H.A. Wagner LLC, Brandon Shores LLC | ER24-1787, et al.; ER24-1790, et al.
California Independent System Operator Corp | ER24-2671, et al.
Southwest Power Pool, Inc | ER25-89-000.
Manitowoc Public Utilities | ER25-634-000.
PJM Interconnection, L.L.C | ER25-712, et al.
PJM Interconnection, L.L.C | ER25-1128, et al.
PJM Interconnection, L.L.C | ER25-1623-000.
Midcontinent Independent System Operator, Inc | ER25-1802-000.
Sierra Club, Natural Resources Defense Council, Inc., and Sustainable FERC Project v. Southwest Power Pool, Inc | EL24-96-000.
Sierra Club, Natural Resources Defense Council, Public Citizen, Sustainable FERC Project, and Union of Concerned Scientists v. PJM Interconnection, L.L.C | EL24-148-000.
Joint Consumer Advocates, Illinois Citizens Utility Board, Maryland Office of the People's Counsel, New Jersey Division of Rate Counsel, Office of the Ohio Consumers' Counsel, Office of the People's Counsel for the District of Columbia v. PJM Interconnection, L.L.C | EL25-18-000.
Constellation Energy Generation, LLC v. PJM Interconnection, L.L.C | EL25-20-000.
PJM Interconnection, L.L.C., Allegheny Electric Cooperative, Inc., American Transmission Systems, Incorporated, Atlantic City Electric Company, Baltimore Gas and Electric Company, Delmarva Power & Light Company, Duke Energy Ohio, Inc., Duke Energy Kentucky, Inc., East Kentucky Power Cooperative, Inc., Essential Power Rock Springs, LLC, Hudson Transmission Partners, LLC, Jersey Central Power & Light Company, Mid-Atlantic Interstate Transmission, LLC, Neptune Regional Transmission System, LLC, Old Dominion Electric Cooperative, PECO Energy Company, PPL Electric Utilities Corporation, Potomac Electric Power Company, Public Service Electric and Gas Company, Rockland Electric Company, Trans-Allegheny Interstate Line Company, Transource West Virginia, LLC, UGI Utilities, Inc., Monongahela Power Company, The Potomac Edison Company, Commonwealth Edison Company, Commonwealth Edison Company of Indiana, Inc., The Dayton Power and Light Company, AEP Appalachian Transmission Company, Inc., AEP Indiana Michigan Transmission Company, Inc., AEP Kentucky Transmission Company, Inc., AEP Ohio Transmission Company, Inc., AEP West Virginia Transmission Company, Inc. Appalachian Power Company, Indiana Michigan Power Company, Kentucky Power Company, Kingsport Power Company, Ohio Power Company, Wheeling Power Company, Duquesne Light Company, Virginia Electric and Power Company, Linden VFT, LLC, City of Cleveland, Department of Public Utilities, Division of Cleveland Public Power, City of Hamilton, OH, Southern Maryland Electric Cooperative, Inc., Ohio Valley Electric Corporation, AMP Transmission, LLC, Silver Run Electric, LLC, NextEra Energy Transmission MidAtlantic Indiana, Inc., Wabash Valley Power Association, Inc., Keystone Appalachian Transmission Company | EL25-49, et al.
Joint Consumer Advocates v. PJM Interconnection, L.L.C | EL25-76-000.
North American Electric Reliability Corporation | RD25-7-000.

The technical conference will be open to the public. Advance registration is not required, and there is no fee for attendance. Information will also be posted on the Calendar of Events on the Commission's website, www.ferc.gov, prior to the event. To stay apprised of issuances in this docket, there is an “eSubscription” link on the Commission's website that enables subscribers to receive email notification when a document is added to a subscribed docket(s).

The technical conference will be transcribed and webcast. Transcripts will be available for a fee from Ace Reporting (202-347-3700). A link to the webcast of this event will be available in the Commission Calendar of Events at www.ferc.gov. The Commission provides technical support for the free webcasts. Please call 202-502-8680 or email customer@ferc.gov if you have any questions.

Commission technical conferences are accessible under section 508 of the Rehabilitation Act of 1973. For accessibility accommodations, please send an email to accessibility@ferc.gov or call toll free 1-866-208-3372 (voice) or 202-208-8659 (TTY) or send a fax to 202-208-2106 with the required accommodations.

For more information about this technical conference, please contact Tim Bialecki at timothy.bialecki@ferc.gov or 202-502-8403. For legal information, please contact Nathan Lobel at nathan.lobel@ferc.gov or 202-502-8456.

Dated: May 20, 2025.
Debbie-Anne A. Reese,
Secretary.

[FR Doc. 2025-09436 Filed 5-23-25; 8:45 am]

BILLING CODE 6717-01-P